DEPARTMENT OF COMMERCE

Bureau of the Census

[Docket Number 131029910-3910-01]

Annual Wholesale Trade Survey

AGENCY: Bureau of the Census, Department of Commerce

ACTION: Notice of determination.

SUMMARY: The United States Department of Commerce's Bureau of the Census (Census Bureau) publishes this notice to announce that the Director of the Census Bureau has determined the need to conduct the 2013 Annual Wholesale Trade Survey (AWTS). The AWTS covers employer firms with establishments located in the United States and classified in the Wholesale Trade sector as defined by the 2007 North American Industry Classification System (NAICS). Through this survey, the Census Bureau will collect data covering annual sales, e-commerce sales, purchases, total operating expenses, year-end inventories held both inside and outside the United States, commissions, total operating revenue, and gross selling value, for three components of wholesale activity: wholesale distributors; manufacturers' sales branches and offices; and agents, brokers, and electronic markets. These data are collected to provide a sound statistical basis for the formation of policy by various government agencies. Results will be available for use for a variety of public and business needs such as economic and market analysis, company performance, and forecasting future demand. The Census Bureau conducts the AWTS to provide continuing and timely national statistical data on wholesale trade annually.

ADDRESSES: The Census Bureau will provide report forms to businesses included in the survey. Additional copies are available upon written request to the Director, U.S. Census Bureau, Washington, DC 20233-0101.

FOR FURTHER INFORMATION CONTACT: William Abriatis, Service Sector Statistics Division, at (301) 763-3686 or by email at william.m.abriatis@census.gov.

SUPPLEMENTARY INFORMATION: Sections 182, 224, and 225 of Title 13 of the United States Code authorize the Census Bureau to take surveys that are necessary to produce current data on the subjects covered by the major censuses. As part of this authorization, the Census Bureau conducts the AWTS to provide continuing and timely national statistical data on wholesale trade activity every year for the period between economic censuses. The AWTS covers employer firms with establishments located in the United States and classified in the Wholesale Trade sector as defined by the 2007 NAICS. The 2013 AWTS will collect data for three components of wholesale activity: wholesale distributors; manufacturers' sales branches and offices; and agents, brokers, and electronic markets. For wholesale distributors, the Census Bureau will collect data covering sales, e-commerce sales, year-end inventories held inside and outside the United States, purchases, and total operating expenses. For manufacturers' sales branches and offices, the Census Bureau will collect data covering annual sales, e-commerce sales, year-end inventories held inside and outside the United States, and total operating expenses. For agents, brokers, and electronic markets, the Census Bureau will collect data covering commissions, total operating revenue, gross selling value, and total operating expenses. The Census Bureau has determined that this survey is necessary as these data are not available publicly on a timely basis from non-governmental or other government sources.

Firms were selected for the AWTS survey using a stratified random sample based on industry groupings and annual sales size. We will provide report forms to the firms covered by this survey in February 2013, and will require their responses within 50 days after receipt. Firms' responses to the AWTS are required by law (Title 13 U.S.C. 182, 224, and 225). The sample of firms selected will provide, with measurable reliability, statistics on annual sales, e-commerce sales, purchases, total operating expenses, year-end inventories held both inside and outside the Unites States, commissions, total operating revenue, and gross selling value for 2013.

The data collected in this survey will be similar to that collected in the past and within the general scope and nature of those inquiries covered in the quinquennial economic census, which was most recently conducted in 2012. These data are collected to provide a sound statistical basis for the formation of policy by various government agencies. Results will be available for use for a variety of public and business needs such as economic and market analysis, company performance, and forecasting future demand.

Notwithstanding any other provision of law, no person is required to respond to, nor shall a person be subject to a penalty for failure to comply with, a collection of information subject to the requirements of the Paperwork Reduction Act (PRA) unless that collection of information displays a current valid Office of Management and Budget (OMB) control number. In accordance with the PRA, 44 U.S.C. 3501-3521, OMB approved the AWTS under OMB control number 0607-0195.

Based upon the foregoing, I have directed that the annual survey be conducted for the purpose of collecting these data.

Dated: November 6, 2013.
John H. Thompson,
Director, Bureau of the Census.

[FR Doc. 2013-27160 Filed 11-12-13; 8:45 am]

BILLING CODE 3510-07-P